DEPARTMENT OF HEALTH AND HUMAN SERVICES

Centers for Disease Control and Prevention

[60Day-14-14KW]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Leroy Richardson, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Measuring the Effects of State and Local Radon Policies—New—National Center for Chronic Disease Prevention and Health Promotion (NCCDPHP), Centers for Disease Control and Prevention (CDC).

Background and Brief Description

Lung cancer is the leading cause of cancer-related death in the U.S. population, with only 17% of lung cancer patients surviving 5 years or more from the time of diagnosis. Radon is a radioactive gas that concentrates in homes and is well-established as the leading cause of lung cancer in non-smokers and the second leading cause of lung cancer in smokers. Radon exposure reduction is the focus of two Healthy People 2020 objectives related to reduction of the number of people living in high-concentration radon homes and the subject of a “Call to Action” from the US Surgeon General. Despite these recommendations, it is estimated that fewer than 25% of existing U.S. homes have been tested for radon.

There are significant gaps in understanding the impact of radon control efforts, especially those in the area of policy. As of February 2013, 22 states required general disclosure of known environmental hazards (including radon) during home sale, 21 states had radon professional licensure policies, and 8 states required notification of radon risks and test results as separate documents during a home sale. Twenty-one states had no radon-related policies. To date there are no studies that assess the effect of radon-related policies on increasing awareness or testing of radon and decreasing exposure to this well-known carcinogen.

To address this gap in knowledge, CDC proposes to conduct a new study to understand how state and local radon policies affect radon awareness, testing, and mitigation. The primary focus of the study will be on how single-family homebuyers and real estate agents understand and are affected by radon policies involving home sales. This information will allow stakeholders to better understand the impact of various policies intended to prevent exposure to radon and decrease the incidence of lung cancer in the U.S. population.

The study approach will involve complementary qualitative and quantitative methods whose results will guide future research and educational efforts. The main outcomes evaluated will be the effect of policies related to generic disclosure of environmental hazards at the time of home sale, notification specific to awareness of and test results for radon at the time of home sale, and radon professional certification. Participants' understanding of the Environmental Protection Agency (EPA) lead-based paint disclosure law, which is present in all states, will be assessed to understand if general environmental awareness differs between states.

Investigators seek to interview and send questionnaires to participants from four states: two states with home sale notification policies specific to radon, one state with only a generic disclosure law, and one state with no environmental disclosure policy. An additional consideration for recruiting these four states is to identify two states that have radon professional certification policies to compare to two states that do not.

After recruiting states with the desired mix of characteristics, investigators will focus on identifying counties or jurisdictions that have a median home sales price that approximates the median home price of the relevant Metropolitan Statistical Area. This will improve the ability to apply findings to other situations.

The Homebuyer Component of the study will involve information collection from 3,000 individuals (750 from each state) who purchased a single-family home in the last 12 months. Potential respondents for the Homebuyer Survey will be identified through review of publicly-available tax records of home sales and recruited through mailed invitations. The survey will ask questions regarding homebuyers' knowledge about radon and lead-based paint as well as how home sale and professional certification policies for radon and lead-based paint affected their decisions during the home buying process. Responses will be collected via mail and the internet. To improve the quality of information collected through the Homebuyer Survey, a draft instrument will be cognitively tested with up to 32 respondents before the final survey is distributed.

The Real Estate Agent Component of the study will involve focus groups with full-time real estate agents who specialize in single-family home sales and are members of a national, state, or an equivalent realtors association. Respondents will be recruited through mailed invitations to real estate offices, phone calls, and possibly outreach at local real estate agent meetings. Investigators will conduct three, one-hour focus groups of 6-8 agents per state for a total of up to 96 respondents. These recorded discussions will ask real estate agents about their and their clients' understanding of radon and lead, how/whether this understanding affected decisions during the home buying process, and whether professional certification affected decisions during the home buying process.

Understanding how these policies affect homebuyers and real estate agents will allow help stakeholders better prevent radon exposure and decrease the incidence of lung cancer in the U.S. population. This information will help provide an evidence basis for CDC's many grantees who work to understand the impact of policies in their states. OMB approval is requested for two years. Participation is voluntary and there are no costs to respondents other than their time.

Estimated Annualized Burden Hours
Type of respondents | Form name | Number of respondents | Number of responses per respondent | Average burden per response (in hours) | Total burden (in hours)
Homebuyers | Cognitive Testing Interview Guide | 16 | 1 | 1 | 16
| Homebuyer Survey | 1,500 | 1 | 8/60 | 200
Real Estate Agents | Focus Group Interview Guide | 48 | 1 | 1 | 48
Total |  |  |  |  | 264

Leroy A. Richardson,
Chief, Information Collection Review Office, Office of Scientific Integrity, Office of the Associate Director for Science, Office of the Director, Centers for Disease Control and Prevention.

[FR Doc. 2014-04136 Filed 2-25-14; 8:45 am]

BILLING CODE 4163-18-P